DEPARTMENT OF LABOR

Mine Safety and Health Administration

[OMB Control No. 1219-0116]

Proposed Extension of Information Collection; Examinations and Testing of Electrical Equipment, Including Examination, Testing, and Maintenance of High Voltage Longwalls

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. Currently, the Mine Safety and Health Administration (MSHA) is soliciting comments on the information collection for Examinations and Testing of Electrical Equipment, Including Examination, Testing, and Maintenance of High Voltage Longwalls.

DATES: All comments must be received on or before September 21, 2020.

ADDRESSES: You may submit comment as follows. Please note that late, untimely filed comments will not be considered.

Electronic Submissions: Submit electronic comments in the following way:

• Federal eRulemaking Portal: https://www.regulations.gov. Follow the instructions for submitting comments for docket number MSHA-2020-0022. Comments submitted electronically, including attachments, to https://www.regulations.gov will be posted to the docket, with no changes. Because your comment will be made public, you are responsible for ensuring that your comment does not include any confidential information that you or a third party may not wish to be posted, such as your or anyone else's Social Security number or confidential business information.

• If you want to submit a comment with confidential information that you do not wish to be made available to the public, submit the comment as a written/paper submission.

Written/Paper Submissions: Submit written/paper submissions in the following way:

• Mail/Hand Delivery: Mail or visit DOL-MSHA, Office of Standards, Regulations, and Variances, 201 12th Street South, Suite 4E401, Arlington, VA 22202-5452.

• MSHA will post your comment as well as any attachments, except for information submitted and marked as confidential, in the docket at https://www.regulations.gov.

FOR FURTHER INFORMATION CONTACT: Roslyn Fontaine, Deputy Director, Office of Standards, Regulations, and Variances, MSHA, at MSHA.information.collections@dol.gov (email); (202) 693-9440 (voice); or (202) 693-9441 (facsimile).

SUPPLEMENTARY INFORMATION:

I. Background

Section 103(h) of the Federal Mine Safety and Health Act of 1977 (Mine Act), 30 U.S.C. 813(h), authorizes MSHA to collect information necessary to carry out its duty in protecting the safety and health of miners. Further, section 101(a) of the Mine Act, 30 U.S.C. 811, authorizes the Secretary of Labor (Secretary) to develop, promulgate, and revise as may be appropriate, improved mandatory health or safety standards for the protection of life and prevention of injuries in coal or other mines. The Mine Act and 30 CFR parts 75 and 77, mandatory safety standards for coal mines, make this collection of information necessary.

Inadequate maintenance of electric equipment is a major cause of serious electrical accidents in the coal mining industry. It is imperative that mine operators adopt and follow an effective maintenance program to ensure that electric equipment is maintained in a safe operating condition to prevent electrocutions, mine fires, and mine explosions. MSHA regulations require the mine operator to establish an electrical maintenance program by specifying minimum requirements for the examination, testing, and maintenance of electric equipment. The regulations also contain recordkeeping requirements that help operators in implementing an effective maintenance program.

(a) Examinations of Electric Equipment

(1) Section 75.512 requires that all electric equipment be frequently examined, tested, and maintained by a qualified person to assure safe operating conditions and that a record of such examinations be kept. Section 75.512-2 specifies that required examinations and tests be made at least weekly.

(2) Section 75.703-3(d)(11) requires that all grounding diodes be tested, examined, and maintained as electric equipment and records of these activities be kept in accordance with the provisions of § 75.512.

(3) Section 77.502 requires that electric equipment be frequently examined, tested, and maintained by a qualified person to ensure safe operating conditions and that a record of such examinations be kept. Section 77.502-2 requires these examinations and tests at least monthly.

(b) Examinations of High-Voltage Circuit Breakers

(1) Section 75.800 requires that circuit breakers protecting high-voltage circuits, which enter the underground area of a coal mine, be properly tested and maintained as prescribed by the Secretary. Section 75.800-3 requires that such circuit breakers be tested and examined at least once each month. Section 75.800-4 requires that a record of the examinations and tests be made.

(2) Section 75.820 requires persons to lock-out and tag disconnecting devices when working on circuits and equipment associated with high-voltage longwalls.

(3) Section 75.821(a) requires testing and examination of each unit of high-voltage longwall equipment and circuits to determine that electrical protection, equipment grounding, permissibility, cable insulation, and control devices are being properly maintained to prevent fire, electrical shock, ignition, or operational hazards. These tests and examinations, including the activation of the ground-fault test circuit, are required once every seven days. Section 75.821(b) requires that each ground-wire monitor and associated circuits be examined and tested at least once every 30 days. Section 75.821(d) requires that, at the completion of examinations and tests, the person making the examinations and tests must certify that they have been conducted. In addition, a record must be made of any unsafe condition found and any corrective action taken. These certifications and records must be kept at least 1 year.

(4) Section 77.800 requires that circuit breakers protecting high-voltage portable or mobile equipment be properly tested and maintained. Section 77.800-1 requires that such circuit breakers be tested and examined at least once each month. Section 77.800-2 requires a record of each test, examination, repair, or adjustment of all circuit breakers protecting high-voltage circuits.

(c) Examinations of Low- and Medium-Voltage Circuits

(1) Section 75.900 requires that circuit breakers protecting low- and medium-voltage power circuits serving three-phase alternating-current equipment be properly tested and maintained. Section 75.900-3 requires that such circuit breakers be tested and examined at least once each month. Section 75.900-4 requires that a record of the required examinations and tests be made.

(2) Section 77.900 requires that circuit breakers protecting low- and medium-voltage circuits which supply power to portable or mobile three-phase alternating-current equipment be properly tested and maintained. Section 77.900-1 requires that such circuit breakers be tested and examined at least once each month. Section 77.900-2 requires that a record of the examinations and tests be made.

(d) Tests and Calibrations of Automatic Circuit Interrupting Devices

Section 75.1001-1(b) requires that automatic circuit interrupting devices that protect trolley wires and trolley feeder wires be tested and calibrated at intervals not to exceed 6 months. Section 75.1001-1(c) requires that a record of the tests and calibrations be kept.

II. Desired Focus of Comments

MSHA is soliciting comments concerning the proposed information collection related to Examinations and Testing of Electrical Equipment, Including Examination, Testing, and Maintenance of High Voltage Longwalls. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

Background documents related to this information collection request are available at https://regulations.gov and in DOL-MSHA located at 201 12th Street South, Suite 4E401, Arlington, VA 22202-5452. Questions about the information collection requirements may be directed to the person listed in the FOR FURTHER INFORMATION CONTACT section of this notice from the previous collection of information.

III. Current Actions

This information collection request concerns provisions for Examinations and Testing of Electrical Equipment, Including Examination, Testing, and Maintenance of High Voltage Longwalls. MSHA has updated the data with respect to the number of respondents, responses, burden hours, and burden costs supporting this information collection request from the previous information collection request.

Type of Review: Extension, without change, of a currently approved collection.

Agency: Mine Safety and Health Administration.

OMB Number: 1219-0116.

Affected Public: Business or other for-profit.

Number of Respondents: 674.

Frequency: On occasion.

Number of Responses: 291,074.

Annual Burden Hours: 55,339 hours.

Annual Respondent or Recordkeeper Cost: $0.

Comments submitted in response to this notice will be summarized in the request for Office of Management and Budget approval of the proposed information collection request; they will become a matter of public record and will be available at https://www.reginfo.gov.

Roslyn B. Fontaine,
Certifying Officer.

[FR Doc. 2020-15960 Filed 7-22-20; 8:45 am]

BILLING CODE 4510-43-P